DEPARTMENT OF THE INTERIOR

Geological Survey

Technology Transfer Act of 1986

AGENCY: Geological Survey, Interior.

ACTION: Notice of Proposed Cooperative Research & Development Agreement (CRADA) Negotiations.

SUMMARY: The United States Geological Survey (USGS) is contemplating entering into a Cooperative Research and Development Agreement (CRADA) with E.I. du Pont de Nemours & Co., Inc. to develop a better understanding of the chemical composition of archived stream drainage sediment and soil samples.

Inquiries: If any other parties are interested in similar activities with the USGS, please contact: Andrew E. Grosz, USGS National Center, MS 954, 12201 Sunrise Valley Dr., Reston VA 20192, (703) 648-6314.

SUPPLEMENTARY INFORMATION: This notice is submitted to meet the USGS requirements stipulated in Survey Manual Chapter 500.20.

P. Patrick Leahy,
Associate Director for Geology, U.S. Geological Survey, Reston VA.

[FR Doc. 01-2420 Filed 1-26-01; 8:45 am]

BILLING CODE 4310-Y7-M